DEPARTMENT OF AGRICULTURE

Natural Resources Conservation Service

Lost River Subwatershed of the Potomac River Watershed, Hardy County, WV

AGENCY: Natural Resources Conservation Service.

ACTION: The Natural Resources Conservation Service (NRCS) is withdrawing its July 9, 2007 Record of Decision (Federal Register Vol. 72, No. 135, July 16, 2007) for the Lost River Subwatershed of the Potomac River Watershed, Hardy County, West Virginia. NRCS has also decided to update and reissue a second draft supplemental work plan and environmental impact statement for the Lost River Subwatershed.

SUMMARY: Pursuant to Section 102(2)(C) of the National Environmental Policy Act of 1969; the Council on Environmental Quality Guidelines (40 CFR Part 1500); and the Natural Resources Conservation Service Guidelines (7 CFR Part 650); the Natural Resources Conservation Service (NRCS), U.S. Department of Agriculture, is giving notice that a second draft supplemental work plan and second draft environmental impact statement (SDEIS) are being prepared for the Lost River Subwatershed of the Potomac River Watershed, Hardy County, West Virginia. The SDEIS will evaluate potential impacts to the natural, physical and human environment as a result of the flood damage reduction and water supply storage measures proposed for the Lost River Subwatershed, Hardy County, West Virginia.

FOR FURTHER INFORMATION CONTACT: Kevin Wickey, State Conservationist, Natural Resources Conservation Service, 75 High Street, Room 301, Morgantown, West Virginia 26505, telephone (304) 284-7545.

SUPPLEMENTARY INFORMATION: A draft environmental impact statement (DEIS) was prepared in September 2006 and circulated for review by agencies and the public. A Final Environmental Impact Statement (FEIS) was issued in May 2007 and a Record of Decision was issued in July 2007. In order to insure that agencies and the public have the opportunity to fully review and provide comments regarding this project, the decision was made to withdraw the ROD of July 2007 and issue a second draft work plan and second draft EIS for the Lost River Subwatershed Project.

Dated: February 19, 2009.
Kevin Wickey,
State Conservationist.

[FR Doc. E9-6247 Filed 3-20-09; 8:45 am]

BILLING CODE 3410-16-P